DEPARTMENT OF ENERGY

10 CFR Part 431

[Docket No. EERE-2013-BT-STD-0006]

RIN 1904-AC55

Energy Efficiency Program for Commercial and Industrial Equipment: Energy Conservation Standards for Commercial and Industrial Fans and Blowers

AGENCY: Office of Energy Efficiency and Renewable Energy, Department of Energy.

ACTION: Extension of public comment period.

SUMMARY: On December 10, 2014, the Department of Energy (DOE) published a notice of data availability (NODA) which presented a provisional analysis that estimates the potential economic impacts and energy savings that could result from promulgating a regulatory energy conservation standard for commercial and industrial fans and blowers. DOE did not propose any energy conservation standard for commercial and industrial fans and blowers. However, DOE published its analysis and the underlying assumptions and calculations, which may ultimately support a proposed standard, for stakeholder review. In response to requests by stakeholders, the comment period for the NODA is being extended to February 25, 2015.

DATES: The comment period for the notice of data availability relating to commercial and industrial fan and blower equipment is extended to February 25, 2015.

ADDRESSES: Interested persons may submit comments, identified by docket number EERE-2013-BT-STD-0006 and/or Regulation Identification Number (RIN) 1904-AC55, by any of the following methods:

• Federal eRulemaking Portal: http://www.regulations.gov. Follow the instructions for submitting comments.

• Email: CIFB2013STD0006@EE.Doe.Gov. Include EERE-2013-BT-STD-0006 and/or RIN 1904-AC55 in the subject line of the message.

• Mail: Ms. Brenda Edwards, U.S. Department of Energy, Building Technologies Program, Mailstop EE-5B, 1000 Independence Avenue SW., Washington, DC 20585-0121. If possible, please submit all items on a compact disc (CD), in which case it is not necessary to include printed copies. [Please note that comments and CDs sent by mail are often delayed and may be damaged by mail screening processes.]

• Hand Delivery/Courier: Ms. Brenda Edwards, U.S. Department of Energy, Building Technologies Program, 950 L'Enfant Plaza SW., Suite 600, Washington, DC 20024. Telephone (202) 586-2945. If possible, please submit all items on CD, in which case it is not necessary to include printed copies.

Docket: The docket is available for review at www.regulations.gov, including Federal Register notices, public meeting attendee lists and transcripts, comments, and other supporting documents/materials. All documents in the docket are listed in the www.regulations.gov index. However, not all documents listed in the index may be publicly available, such as information that is exempt from public disclosure. The rulemaking Web page can be found at: http://www1.eere.energy.gov/buildings/appliance_standards/rulemaking.aspx/ruleid/25. This Web page contains a link to the docket for this notice on the regulation.gov site. The www.regulations.gov Web page contains instructions on how to access all documents in the docket, including public comments.

FOR FURTHER INFORMATION CONTACT: Mr. Ron Majette, U.S. Department of Energy, Office of Energy Efficiency and Renewable Energy, Building Technologies, EE-5B, 1000 Independence Avenue SW., Washington, DC 20585-0121. Telephone: (202) 586-7935. Email: CIFansBlowers@ee.doe.gov.

Mr. Peter Cochran, U.S. Department of Energy, Office of the General Counsel, GC-33, 1000 Independence Avenue SW., Washington, DC 20585-0121. Telephone: (202) 586-9496. Email: peter.cochran@hq.doe.gov.

For further information on how to submit a comment and review other public comments and the docket, contact Ms. Brenda Edwards at (202) 586-2945 or by email: Brenda.Edwards@ee.doe.gov.

SUPPLEMENTARY INFORMATION: On December 10, 2014, DOE published a notice of data availability (NODA) in the Federal Register to make available and invite comments on its provisional analysis regarding energy conservation standards for commercial and industrial fans and blowers. 79 FR 73246. The NODA provided for the written submission of comments by January 26, 2015. The Air Movement and Control Association International (AMCA) and the Appliance Standards Awareness Project (ASAP) requested an extension of the public comment period by 45 days. Stakeholders stated that additional time is necessary to review of the published analysis in order to provide, prepare, and submit comments accordingly. DOE has determined that extending the comment period to allow additional time for interested parties to submit comments is appropriate based on the foregoing reason. However, DOE believes a 30 day extension, providing a total comment period of 75 days, allows sufficient time for submitting comments. Accordingly, DOE will consider any comments received by midnight of February 25, 2015, and deems any comments received by that time to be timely submitted.

Issued in Washington, DC, on December 31, 2014.
Kathleen B. Hogan,
Deputy Assistant Secretary for Energy Efficiency, Energy Efficiency and Renewable Energy.

[FR Doc. 2015-00234 Filed 1-9-15; 8:45 am]

BILLING CODE 6450-01-P